ENVIRONMENTAL PROTECTION AGENCY

[EPA-HQ-OAR-2003-0162; FRL 9521-6]

Information Collection Request Submitted to OMB for Review and Approval; Comment Request; Regional Haze Regulations (Renewal)

AGENCY: Environmental Protection Agency (EPA).

ACTION: Notice.

SUMMARY: The Environmental Protection Agency has submitted an information collection request (ICR), “Regional Haze Regulations” (EPA ICR No. 1813.08, OMB Control No. 2060-0421), to the Office of Management and Budget (OMB) for review and approval in accordance with the Paperwork Reduction Act (44 U.S.C. 3501 et seq.). This is a proposed extension of the ICR, which is currently approved through October 31, 2012. Public comments were previously requested via the Federal Register (77 FR 24952) on April 26, 2012, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 12, 2012.

ADDRESSES: Submit your comments, referencing Docket ID No. EPA-HQ-OAR-2003-0162, to (1) EPA online using www.regulations.gov (our preferred method), by email to : a-and-r-docket@epa.gov, or by mail to: EPA Docket Center, Environmental Protection Agency, Mail Code 28221T, 1200 Pennsylvania Avenue NW., Washington, DC 20460, and (2) OMB via email to oira_submission@omb.eop.gov. Address comments to OMB Desk Officer for EPA.

The EPA's policy is that all comments received will be included in the public docket without change including any personal information provided, unless the comment includes profanity, threats, information claimed to be Confidential Business Information (CBI) or other information whose disclosure is restricted by statute.

FOR FURTHER INFORMATION CONTACT: Ms. Gobeail McKinley (919) 541-5246, mckinley.gobeail@epa.gov, Office of Air Quality Planning and Standards, Air Quality Policy Division, Mail Code C539-04, Research Triangle Park, NC 27711.

SUPPLEMENTARY INFORMATION: Supporting documents, which explain in detail the information that the EPA will be collecting, are available in the public docket for this ICR. The docket can be viewed online at www.regulations.gov or in person at the EPA Docket Center, EPA West, Room 3334, 1301 Constitution Avenue NW., Washington, DC The telephone number for the Docket Center is 202-566-1744. For additional information about EPA's public docket, visit http://www.epa.gov/dockets.

Abstract: This ICR is for activities related to the implementation of the EPA's 1999 regional haze rule, for the time period between October 31, 2012 and October 30, 2015, and renews the previous ICR. The regional haze rule, as authorized by sections 169A and 169B of the Clean Air Act (CAA), requires states to develop implementation plans to protect visibility in 156 federally-protected Class I areas. Tribes may choose to develop implementation plans. For this time period, states will be completing their implementation plans to comply with the rule. Before any agency, department, or instrumentality of the federal government engages in, supports in any way, provides financial assistance for, licenses, permits, or approves any activity, that agency has the affirmative responsibility to ensure that such action conforms to the State Implementation Plan (SIP) required under the regional haze rule. Section 176(c) of the CAA requires that all Federal actions conform with the SIP requirements. Depending on the type of action, the federal entities must collect information themselves, hire consultants to collect the information or require applicants/sponsors of the federal action to provide the information.

Respondents/affected entities: Entities potentially affected by this action are state, local, and tribal air quality agencies, regional planning organizations and facilities potentially regulated under the regional haze rule.

Respondents/affected entities: States and Federal Land Managers.

Respondent's obligation to respond: Mandatory.

Estimated number of respondents: 53.

Frequency of response: Annual.

Total estimated burden: 6,048 hours.

Total estimated cost: $293,631. This includes an estimated labor cost of $293,631 and an estimated cost of $0 for capital investment or maintenance and operational costs.

Changes in the Estimates: There is a decrease of 25,793 hours in the total estimated burden currently identified in the OMB Inventory of Approved ICR Burdens. The last collection request anticipated the program progressing from the planning stages to implementation. The change in burden reflects changes in labor rates, changes in the activities conducted due to the normal progression of the program, and the fact that the aggregate initial regional haze SIPs and best available retrofit technology (BART) determinations will be acted on by the EPA by November 2012 and the states will be evaluating reasonable progress and implementation stages for the goals in those SIPs.

John Moses,
Director, Collection Strategies Division.

[FR Doc. 2012-22404 Filed 9-11-12; 8:45 am]

BILLING CODE 6560-50-P